DEPARTMENT OF THE INTERIOR

Fish and Wildlife Service

[FWS-HQ-IA-2014-N044; FXIA16720900020-145-FF09A2000]

Proposed Information Collection; International Conservation Grant Programs

AGENCY: Fish and Wildlife Service, Interior.

ACTION: Notice; request for comments.

SUMMARY: We (U.S. Fish and Wildlife Service) will ask the Office of Management and Budget (OMB) to approve the information collection (IC) described below. As required by the Paperwork Reduction Act of 1995 and as part of our continuing efforts to reduce paperwork and respondent burden, we invite the general public and other Federal agencies to take this opportunity to comment on this IC. This IC is scheduled to expire on September 30, 2014. We may not conduct or sponsor and a person is not required to respond to a collection of information unless it displays a currently valid OMB control number.

DATES: To ensure that we are able to consider your comments on this IC, we must receive them by May 13, 2014.

ADDRESSES: Send your comments on the IC to the Service Information Collection Clearance Officer, U.S. Fish and Wildlife Service, MS 2042-PDM, 4401 North Fairfax Drive, Arlington, VA 22203 (mail); or hope_grey@fws.gov (email). Please include “1018-0123” in the subject line of your comments.

FOR FURTHER INFORMATION CONTACT: To request additional information about this IC, contact Hope Grey at hope_grey@fws.gov (email) or 703-358-2482 (telephone).

SUPPLEMENTARY INFORMATION:

I. Abstract

Some of the world's most treasured and exotic animals are dangerously close to extinction. Destruction of natural habitat, illegal poaching, and pet-trade smuggling are devastating populations of tigers, rhinos, marine turtles, great apes, elephants, and many other highly cherished species. The Division of International Conservation administers competitive grant programs funded under the:

• African Elephant Conservation Act (16 U.S.C. 4201-4245).

• Asian Elephant Conservation Act of 1997 (16 U.S.C. 4261).

• Great Apes Conservation Act of 2000 (Pub. L. 106-411).

• Rhinoceros and Tiger Conservation Act of 1994 (16 U.S.C. 5306).

• Marine Turtle Conservation Act (Pub. L. 108-266).

• Endangered Species Act (16 U.S.C. 1531 et seq.) (Wildlife Without Borders Programs-Africa, Mexico, Latin America and the Caribbean, Russia, Critically Endangered Species, and Amphibians in Decline).

Applicants submit proposals for funding in response to Notices of Funding Availability that we publish on Grants.gov. We collect the following information:

• Cover page with basic project details (FWS Form 3-2338).

• Project summary and narrative.

• Letter of appropriate government endorsement.

• Brief curricula vitae for key project personnel.

• Complete Standard Forms 424 and 424b (nondomestic applicants do not submit the standard forms).

Proposals may also include, as appropriate, a copy of the organization's Negotiated Indirect Cost Rate Agreement (NICRA) and any additional documentation supporting the proposed project.

The project summary and narrative are the basis for this information collection. A panel of technical experts reviews each proposal to assess how well the project addresses the priorities identified by each program's authorizing legislation and the associated project costs. As all of the on-the-ground projects are conducted outside the United States, the letter of appropriate government endorsement ensures that the proposed activities will be supportive of locally identified priorities and needs. Brief curricula vitae for key project personnel allow the review panel to assess the qualifications of project staff to effectively carry out the project goals and objectives. As all Federal entities must honor the indirect cost rates an organization has negotiated with its cognizant agency, we require all organizations with a NICRA to submit the agreement paperwork with their proposals to verify how their rate is applied in their proposed budget.

All assistance awards under these grant programs have a maximum reporting requirement of:

• Interim reports (performance report and a financial status report) as appropriate, and a

• Final report (performance and financial status report and copies of all deliverables, photographic documentation of the project and products resulting from the project) due within 90 days of the end of the performance period.

II. Data

OMB Control Number: 1018-0123.

Title: International Conservation Grant Programs.

Service Form Number: 3-2338.

Type of Request: Extension of a currently approved collection.

Description of Respondents: Domestic and nondomestic individuals; nonprofit organizations; educational institutions; private sector entities; and State, local and tribal governments.

Respondent's Obligation: Required to obtain or retain a benefit.

Frequency of Collection: On occasion.

Activity | Number of respondents | Number of responses | Completion time per response | Total annual burden hours
Applications | 502 | 502 | 12 hours | 6,024
Reports | 164 | 315 | 30 hours | 9,450
Totals | 666 | 817 |  | 15,474

Estimated Annual Nonhour Burden Cost: None.

III. Comments

We invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. We will include or summarize each comment in our request to OMB to approve this IC. Before including your address, phone number, email address, or other personal identifying information in your comment, you should be aware that your entire comment, including your personal identifying information, may be made publicly available at any time. While you can ask us in your comment to withhold your personal identifying information from public review, we cannot guarantee that we will be able to do so.

Dated: March 10, 2014.
Tina A. Campbell,
Chief, Division of Policy and Directives Management, U.S. Fish and Wildlife Service.

[FR Doc. 2014-05569 Filed 3-13-14; 8:45 am]

BILLING CODE 4310-55-P